DEPARTMENT OF COMMERCE

International Trade Administration

[Application No. 11-1A001]

Export Trade Certificate of Review

ACTION: Notice of issuance of an amended Export Trade Certificate of Review to Latin American Multichannel Advertising Council, Inc. (“LAMAC”), Application No. 11-1A001.

SUMMARY: The Secretary of Commerce, through the Office of Trade and Economic Analysis (“OTEA”), issued an amended Export Trade Certificate of Review Certificate to LAMAC on December 20, 2019.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

LAMAC's Export Trade Certificate of Review was amended as follows:

1. The following companies were added as new Members of the Certificate within the meaning of section 325.2(l) of the Regulations (15 CFR 325.2(l)):

• NBCUniversal Networks International Spanish Latin America, LLC

• MTV Networks Latin America Inc.

• AMC Networks Latin America LLC

• Lifetime Latin America, LLC

2. The following company was deleted as a Member of the Certificate:

• E! Entertainment Television Latin America Partners, L.P.

3. The names of the following Members of the Certificate were changed:

• From NGC Networks Latin America, LLC to NGC Network Latin America, LLC

• From Turner Broadcasting System Latin America, Inc. to Turner International Latin America, Inc.

• From History Channel Latin America, LLC to The History Channel Latin America, LLC

• From Fox Latin American Channel, Inc. to Fox Latin American Channel LLC

LAMAC's Membership under the amended Export Trade Certificate of Review is as follows:

1. Discovery Latin America, LLC

2. Fox Latin American Channel LLC

3. NGC Network Latin America, LLC

4. Turner International Latin America, Inc.

5. A&E Mundo, LLC

6. The History Channel Latin America, LLC

7. NBCUniversal Networks International Spanish Latin America, LLC

8. MTV Networks Latin America Inc.

9. AMC Networks Latin America LLC

10. Lifetime Latin America, LLC

The effective date of the amended certificate is October 3, 2019, the date on which LAMAC's application to amend was deemed submitted.

Dated: December 20, 2019.
Amanda Reynolds,
International Economist, Office of Trade and Economic Analysis, International Trade Administration, U.S. Department of Commerce.

[FR Doc. 2019-28062 Filed 12-27-19; 8:45 am]

BILLING CODE 3510-DR-P